DEPARTMENT OF LABOR

Occupational Safety and Health Administration

Advisory Committee on Construction Safety and Health; Notice of Open Meeting

AGENCY: Occupational Safety and Health Administration (OSHA), Labor.

SUMMARY: Notice is hereby given that the Advisory Committee on Construction Safety and Health (ACCSH) will meet on February 17, 2000, at the Holiday Inn O'Hare International, 5440 North River Road, Rosemont, IL. This meeting is open to the public.

TIMES, DATES, ROOMS: ACCSH will meet from 8 a.m. to Noon, Thursday, February 17. ACCSH work groups will meet from 8 a.m. to 5 p.m., Monday, February 14.

SUPPLEMENTARY INFORMATION: For further information contact Veneta Chatmon, Office of Public Affairs, Room N-3647, telephone (202) 693-1999, at the Occupational Safety and Health Administration, 200 Constitution Avenue, NW, Washington, DC 20210.

An official record of the meeting will be available for public inspection at the OSHA Docket Office, Room N-2625, telephone 202-693-2350. All ACCSH meetings and those of its work groups are open to the public. Individuals needing special accommodation should contact Veneta Chatmon no later than February 1, 2000, at the above address.

ACCSH was established under section 107(e)(1) of the Contract Work Hours and Safety Standards Act (40 U.S.C. 333) and section 7(b) of the Occupational Safety and Health Act of 1970 (29 U.S.C. 656).

The agenda items include:

• Remarks by the Assistant Secretary for the Occupational Safety and Health Administration Charles N. Jeffress.

• ACCSH Work Group Updates, including:

• Musculoskeletal Disorders,

• Fall Protection,

• Sanitation,

• Process Safety Management.

• Open Forum—Public questions, complaints and compliments are welcome.

The following ACCSH Work Groups are scheduled to meet at the Holiday Inn O'Hare International on Monday, February 14:

• Fall Protection—8-10 a.m.

• Multi-employer citation policy—10:15 a.m.-12:15 p.m.

• Sanitation—1-3 p.m.

• Musculoskeletal Disorders—3:15-5:15 p.m.

The Training Work Group is scheduled to meet on Wednesday, February 16 at the OSHA Training Institute, 1555 Times Drive, Des Plaines, IL.

Other workgroups may meet after adjournment of the ACCSH meeting on Thursday, February 17, 2000.

For further information on ACCSH activities and scheduling please refer to the OSHA Web site at http://www.osha.gov or call Jim Boom in OSHA's Directorate of Construction at (202) 693-1839.

Interested persons may submit written data, views or comments, preferably with 20 copies, to Veneta Chatmon, at the address above. Submissions received prior to the meeting will be provided to ACCSH and will be included in the record of the meeting.

Signed at Washington, DC this 19th day of January, 2000.
Charles N. Jeffress,
Assistant Secretary of Labor.

[FR Doc. 00-1780 Filed 1-25-00; 8:45 am]

BILLING CODE 4510-26-P